FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 012100.

Title: CMA CGM/CSAV Gulf Bridge Express Vessel Sharing Agreement.

Parties: CMA CGM Antilles Guyane and Compania Sud American de Vapores S.A.

Filing Party: Draughn Arbona, Esq.; Associate Counsel & Environmental Officer; CMA CGM (America) LLC; 5701 Lake Wright Drive; Norfolk, VA 23502.

Synopsis: The agreement authorizes the parties to share vessel space in the trade between the U.S. Gulf coast and Mexico, Jamaica, Colombia, and Venezuela. The parties have requested expedited review.

Agreement No.: 012101.

Title: NYK/“K” Line/MOL Vessel Sharing Agreement.

Parties: Kawasaki Kisen Kaisha, Ltd.; Mitsui O.S.K. Lines, Ltd.; and Nippon Yusen Kaisha.

Filing Party: Wayne R. Rohde, Esq.; Sher & Blackwell LLP; 1850 M Street, NW., Suite 900; Washington, DC 20036.

Synopsis: The agreement authorizes the parties to share vessel space in the trade between Hawaii and ports in Japan, China, Korea, and Pacific Coasts of Mexico, Colombia, and Ecuador.

By Order of the Federal Maritime Commission.
Dated: June 14, 2010.
Rachel E. Dickon,
Assistant Secretary.

[FR Doc. 2010-14679 Filed 6-16-10; 8:45 am]

BILLING CODE P